DEPARTMENT OF LABOR

Employment and Training Administration

[TA-W-38,956]

CIBA Speciality Chemicals USA Old Bridge, NJ; Notice of Termination of Investigation

Pursuant to section 221 of the Trade Act of 1974, an investigation was initiated on April 2, 2001, in response to a worker petition which was filed on behalf of workers at CIBA Speciality Chemicals USA, Old Bridge, New Jersey.

The petitioners have requested that the petition be withdrawn. Consequently, further investigation in this case would serve no purpose and the investigation has been terminated.

Signed at Washington, D.C. this 16th day of July, 2001.
Linda G. Poole,
Certifying Officer, Division of Trade Adjustment Assistance.

[FR Doc. 01-18628 Filed 7-25-01; 8:45 am]

BILLING CODE 4510-30-M